DEPARTMENT OF THE INTERIOR

Bureau of Land Management

[NM-030-5101-EU-G508; NMNM 107579]

Direct Sale of Public Land, Mud Springs, Hidalgo County, NM

AGENCY: Bureau of Land Management, Interior.

ACTION: Notice of realty action.

SUMMARY: The Bureau of Land Management (BLM) proposes to sell directly to Hollis and Dorothy Vaughn a parcel of public land in Hidalgo County, New Mexico, pursuant to sections 203 and 209 of the Federal Land Policy and Management Act of 1976 (FLPMA), at not less than the appraised market value.

DATES: Comments must be received by not later than April 24, 2006.

ADDRESSES: Comments should be sent to the District Manager, BLM, Las Cruces District Office, 1800 Marquess, Las Cruces, NM 88005.

FOR FURTHER INFORMATION CONTACT: Lori Allen, Realty Specialist, at (505) 525-4454 or by e-mail at Lori_Allen@nm.blm.gov.

SUPPLEMENTARY INFORMATION: The public land proposed for sale is described as follows:

New Mexico Principal Meridian

T. 18 S., R. 20 W.,

Sec. 12, N½NW¼NE¼SW¼.

The area described contains 5 acres, more or less.

The appraised market value for this parcel is $3,000. The Mimbres Resource Management Plan dated December 1993 makes allowance for a direct sale when the public interest would be served. In this case, the BLM authorized officer finds that the public interest would be best served by a direct sale to Hollis and Dorothy Vaughn to resolve an unintentional, unauthorized occupancy of public land managed by the BLM. In accordance with 43 CFR 2710.0-6(c)(3)(iii) and 43 CFR 2711.3-3(a), direct sale procedures are appropriate to resolve an inadvertent unauthorized occupancy of the land and to protect existing equities in the land. The unauthorized occupancy involves the encroachment of a large metal barn, corrals, and ranch equipment currently used by Hollis and Dorothy Vaughn. The Vaughns own the private property adjacent to the subject BLM parcel. The initial occupancy began when a previous private landowner built the improvements on the public land assuming it was part of their adjacent private ownership. Access to the subject BLM parcel is through private property owned by the Vaughns. The sale would assemble the public land to the Vaughn property, protect the improvements placed on the land by the previous private landowner, and resolve an inadvertent trespass. The parcel is the minimum size possible to ensure that all of the improvements are included. The proponent, Hollis and Dorothy Vaughn, will be allowed 30 days from receipt of a written offer to submit a deposit of at least 20 percent of the appraised market value of the parcel, and 180 days thereafter to submit the balance.

The following rights, reservations, and conditions will be included in the patent conveying the land:

1. A reservation to the United States for a right-of-way for ditches and canals constructed by the authority of the United States, Act of August 30, 1890 (43 U.S.C. 945).

2. The mineral interests being offered for conveyance have no known mineral value. Acceptance of a direct sale offer constitutes an application for conveyance of the mineral interest. In addition to the full purchase price, a nonrefundable fee of $50 will be required for the purchase of the mineral interests to be conveyed simultaneously with the sale of the land, in accordance with Section 209 of FLPMA (43 U.S.C. 1719).

3. On March 8, 2006 the land described is segregated from appropriation under the public land laws, including the general mining laws and leasing under the mineral leasing laws. Upon publication of this notice and until completion of the sale, BLM will no longer accept land use applications affecting the parcel identified for sale. The segregation effect of this notice shall terminate upon issuance of a patent, upon publication in the Federal Register of a termination notice, or on December 4, 2006, whichever occurs first.

Detailed information concerning this land sale, including the reservations, sale procedures and conditions, appraisal, planning and environmental documents, and mineral report is available for review at the BLM, Las Cruces District Office, 1800 Marquess, Las Cruces, NM 88005.

Objections will be reviewed by the Las Cruces District Manager who may sustain, vacate, or modify this realty action. In the absence of any objections, this proposal will become the final determination of the Department of the Interior.

Comments, including names, street addresses, and other contact information of respondents, will be available for public review. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations or businesses, and from individuals identifying themselves as representatives or officials of organizations or businesses.

(Authority: 43 CFR 2711.1-2(a))

Dated: January 19, 2006.
Edwin L. Roberson,
District Manager, Las Cruces.

[FR Doc. E6-3249 Filed 3-7-06; 8:45 am]

BILLING CODE 4310-VC-P